ENVIRONMENTAL PROTECTION AGENCY

[FRL-10018-64-Region 10]

Proposed Reissuance of NPDES General Permit for Tribal Enhancement and Federal Research Marine Net Pen Facilities Within Puget Sound (WAG132000)

AGENCY: Environmental Protection Agency.

ACTION: Notice of proposed reissuance of NPDES General Permit and request for public comment.

SUMMARY: The Director of the Water Division, Environmental Protection Agency (EPA) Region 10, proposes to reissue the National Pollutant Discharge Elimination System (NPDES) General Permit for Tribal Enhancement and Federal Research Marine Net Pen Facilities Within Puget Sound (draft general permit). As proposed, eligible facilities include tribal enhancement net pens, which are permitted to raise up to 200,000 pounds of native salmonids over a four month growing period each year, and federal research net pen facilities, which are permitted to raise up to 100,000 pounds annually of native finfish. Currently, there are five tribal enhancement facilities and one federal research facility eligible for coverage under the general permit. Existing enhancement and research facilities may request authorization to discharge under the general permit by submitting a Notice of Intent (NOI) no more than ninety (90) days following the effective date of the permit. New enhancement or research facilities that begin operations after the effective date of the general permit must submit a NOI at least 180 days prior to initiation of operations. Upon receipt, EPA will review the NOI to ensure that all permit requirements are met. If determined appropriate by EPA, a discharger will be granted coverage under the general permit upon the date that EPA provides written notification. EPA is accepting public comments on the draft general permit.

DATES: Comments must be received by March 26, 2021.

ADDRESSES: Comments on the draft General Permit should be uploaded electronically to https://www.regulations.gov, identified by Docket No. EPA-R10-OW-2020-0506.

FOR FURTHER INFORMATION CONTACT: Permit documents may be found on the EPA Region 10 website at: https://www.epa.gov/npdes-permits/draft-npdes-general-permit-tribal-enhancement-and-federal-research-marine-net-pen.

Copies of the draft general permit and fact sheet are also available upon request. Requests may be made to Audrey Washington at (206) 553-0523. Requests may also be electronically mailed to: washington.audrey@epa.gov, or merz.martin@epa.gov.

SUPPLEMENTARY INFORMATION: Please see the draft general permit and Fact Sheet.

Other Legal Requirements

This action is not a significant regulatory action and was therefore not submitted to the Office of Management and Budget (OMB) for review.

Compliance with Endangered Species Act, Essential Fish Habitat, Paperwork Reduction Act, and other requirements are discussed in the Fact Sheet to the proposed permit.

Daniel D. Opalski,
Director, Water Division, Region 10.

[FR Doc. 2021-02630 Filed 2-8-21; 8:45 am]

BILLING CODE 6560-50-P